DEPARTMENT OF COMMERCE

Foreign-Trade Zones Board

[Order No. 1887]

Reorganization and Expansion of Foreign-Trade Zone 171 Under Alternative Site Framework; Liberty County, TX

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, Liberty County Economic Development Corporation, grantee of Foreign-Trade Zone 171, submitted an application to the Board (FTZ Docket B-85-2012, docketed 11/14/2012) for authority to reorganize and expand under the ASF with a service area of Liberty and Chambers Counties, Texas, within and adjacent to the Houston Customs and Border Protection port of entry, FTZ 171's Sites 1, 2, 3 and 9 would be removed from the zone, existing Sites 4, 5, 6, 7 and 8 would be categorized as magnet sites, and the grantee proposes a new magnet site (Site 10);

Whereas, notice inviting public comment was given in the Federal Register (77 FR 69789, 11/21/2012) and the application has been processed pursuant to the FTZ Act and the Board's regulations; and

Whereas, the Board adopts the findings and recommendations of the examiner's report, and finds that the requirements of the FTZ Act and the Board's regulations are satisfied;

Now, therefore, the Board hereby orders:

The application to reorganize and expand FTZ 171 under the ASF is approved, subject to the FTZ Act and the Board's regulations, including Section 400.13, to the Board's standard 2,000-acre activation limit for the zone, and to a five-year ASF sunset provision for magnet sites that would terminate authority for Sites 4, 5, 6, 7, 8 and 10 if not activated by March 30, 2018.

Signed at Washington, DC, this March 5, 2013.
Paul Piquado,
Assistant Secretary of Commerce for Import Administration, Alternate Chairman, Foreign-Trade Zones Board.
Andrew McGilvray,
Executive Secretary.

[FR Doc. 2013-05660 Filed 3-11-13; 8:45 am]

BILLING CODE 3510-DS-P